DEPARTMENT OF LABOR

Employment and Training Administration

[TA-W-71,571]

Interdent Service Corporation; Stockton, CA; Notice of Termination of Investigation

Pursuant to Section 223 of the Trade Act of 1974, as amended, an investigation was initiated in response to a petition filed on July 7, 2009 by a company official on behalf of workers of InteDent Service Corporation, Stockton, California.

The petitioning group of workers is covered by an earlier petition (TA-W-71,328) filed on June 22, 2009 that is the subject of an ongoing investigation for which a determination has not yet been issued. Further investigation in this case would duplicate efforts and serve no purpose; therefore the investigation under this petition has been terminated.

Signed at Washington, DC, this 6th day of August 2009.
Richard Church,
Certifying Officer, Division of Trade Adjustment Assistance.

[FR Doc. E9-20466 Filed 8-24-09; 8:45 am]

BILLING CODE 4510-FN-P